DEPARTMENT OF TRANSPORTATION

Federal Railroad Administration

[Docket No. FRA-2018-0008-N-6]

Approved Agency Information Collection Activities

AGENCY: Federal Railroad Administration (FRA), U.S. Department of Transportation (DOT).

ACTION: Notice of Office of Management and Budget (OMB) Approval of Revised Instructions for Form FRA F 6180.57 and Other Recent FRA Information Collection OMB Approvals.

SUMMARY: FRA announces that OMB approved the information collection requests (ICRs) identified below for 3 years.

FOR FURTHER INFORMATION CONTACT: Mr. Robert Brogan, Information Collection Clearance Officer, Office of Railroad Safety, Regulatory Analysis Division, RRS-21, Federal Railroad Administration, 1200 New Jersey Avenue SE, Room W33-497, Washington, DC 20590 (telephone: (202) 493-6292) or Ms. Kim Toone, Information Collection Clearance Officer, Office of Information Technology, RAD-20, Federal Railroad Administration, 1200 New Jersey Avenue SE, Room W34-212, Washington, DC 20590 (telephone: (202) 493-6132).

SUPPLEMENTARY INFORMATION: On June 6, 2018, OMB approved revised instructions Form FRA F 6180.57, Highway-Rail Grade Crossing Accident/Incident Report, for 3 years under OMB No. 2130-0500 (49 CFR part 225). This latest approval authorizes FRA to capture information concerning post-accident toxicological testing for certain human-factor highway-rail grade crossing accidents and incidents in the narrative block of this form. The newly revised 49 CFR 219.201, effective on June 12, 2017, requires post-accident toxicological testing of railroad employees when at least one of five specific requirements is met for certain human factor categories of highway-rail grade crossing accidents and incidents. Additionally, under the Paperwork Reduction Act of 1995 (PRA) and its implementing regulations, FRA announces that OMB approved the renewal ICRs identified below for 3 years. These renewal ICRs pertain to 49 CFR parts 213, 217, 218, 224, 227, 228, 229, 231, 232, 234, 237, 238, 239, 241, 242, 243, and 272. Finally, FRA announces that OMB approved two study-related renewal ICRs for 3 years.

The PRA, 44 U.S.C. 3501-3520, and its implementing regulations, 5 CFR part 1320, require Federal agencies to display OMB control numbers and inform respondents of their legal significance once OMB approval is obtained. In the past 12 months, OMB approved the following renewal information collections with the following new expiration dates: (1) OMB No. 2130-0500 (49 CFR part 225) (Form FRA F 6180.55/55a/56/57/78/81/98107/150)—June 30, 2021; (2) OMB No. 2130-0545, Passenger Train Emergency Preparedness (49 CFR part 239)—July 31, 2020; (3) OMB No. 2130-0552, Locomotive Cab Sanitation Standards (49 CFR part 229)—July 31, 2020; (4) OMB No. 2130-0564, Locomotive Crashworthiness (49 CFR part 229)—July 31, 2020; (5) OMB No. 2130-0602, Critical Incident Stress Plans (49 CFR part 272)—August 31, 2020; (6) OMB No. 2130-0005, Hours of Service Regulations (49 CFR part 228) (Form FRA F 6180.3)—January 31, 2021; (7) OMB No. 2130-0566, Reflectorization of Freight Rolling Stock (49 CFR part 224) (Form FRA F 6180.113)—November 30, 2020; (8) OMB No. 2130-0594, Railroad Safety Appliance Standards (49 CFR part 231)—October 31, 2020; (9) OMB No. 2130-0035, Railroad Operating Rules (49 CFR parts 217 & 218)—February 28, 2021; (10) OMB No. 2130-0592, Track Safety Standards; Concrete Crossties (49 CFR part 213)—February 28, 2021; (11) OMB No. 2130-0506, Identification of Cars Moved in Accordance with 49 CFR 232.3(d) (Formerly Order 13528) (49 CFR part 232)—March 31, 2021; (12) OMB No. 2130-0556, U.S. Locational Requirement for Dispatching Rail Operations in the United States (49 CFR part 241)—April 30, 2021; (13) OMB No. 2130-0595, Safety and Health Requirements Related to Camp Cars (49 CFR part 228)—April 30, 2021; (14) OMB No. 2130-0597, Training, Qualification, and Oversight for Safety-Related Railroad Employees (49 CFR parts 213 & 243)—April 30, 2021; (15) OMB No. 2130-0571, Occupational Noise Exposure for Railroad Operating Employees (49 CFR part 227)—May 31, 2021; and (16) OMB No. 2130-0596, Conductor Certification (49 CFR part 242)—May 31, 2021.

Additionally, in the last 18 months, OMB approved the following two study-related renewal information collections with the following new expiration dates: (1) OMB No. 2130-0617, Survey of Insular and Tourist Railroads (49 CFR part 237) (email survey)—November 31, 2020; and (2) OMB No. 2130-0622, Cab Technology Integration Lab (CTIL) Head-Up Display Study (Forms FRA F 6180.170a; FRA F 6180.170b)—January 31, 2021.

Persons affected by the above-referenced information collections are not required to respond to any collection of information unless it displays a currently valid OMB control number. These OMB approvals certify FRA has complied with the provisions of the PRA (44 U.S.C. 3501-3520) and with 5 CFR 1320.5(b) informing the public about OMB's approval of the information collection requirements of the above cited forms, studies, and regulations.

Authority: 44 U.S.C. 3501-3520.

Juan D. Reyes III,
Chief Counsel.

[FR Doc. 2018-16881 Filed 8-7-18; 8:45 am]

BILLING CODE 4910-06-P